DEPARTMENT OF JUSTICE

Antitrust Division

Notice Pursuant to the National Cooperative Research and Production Act of 1993—Motion Picture Laboratories, Inc.

Notice is hereby given that, on September 8, 2005, pursuant to Section 6(a) of the National Cooperative Research and Production Act of 1993, 15 U.S.C. 4301 et seq. (“the Act”), Motion Picture Laboratories, Inc. (“MovieLabs”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Twentieth Century Fox Film Corporation, Los Angeles, CA; Paramount Pictures Corporation, Los Angeles, CA; Walt Disney Pictures & Television, Burbank, CA; Warner Bros. Entertainment Inc., Burbank, CA; Universal City Studies LLLP, Universal City, CA; and Sony Pictures Entertainment Inc., Culver City, CA. The general area of MovieLabs' planned activity is identifying, researching, developing, evaluating, owning and disseminating technology (i) relevant to motion picture production and distribution and (ii) that lawfully prevents, deters or detects unauthorized and illegal copying and/or distribution of copyrighted audiovisual works.

Dorothy B. Fountain,
Deputy Director of Operations, Antitrust Division.

[FR Doc. 05-20131 Filed 10-5-05; 8:45 am]

BILLING CODE 4410-11-M